DEPARTMENT OF ENERGY

Federal Energy Regulatory Commission

Notice of Request for Extension of Time To Commence and Complete Project Construction and Soliciting Comments, Motions To Intervene, and Protests

July 24, 2000.

Take notice that the following hydroelectric application has been filed with the Commission and is available for public inspection:

a. Type of Application: Request for Extension of Time.

b. Project No: 10455-017.

c. Date Filed: June 7, 2000.

d. Applicant: JDJ Energy Company.

e. Name of Project: River Mountain Pumped Storage Project.

f. Location: The project is located on the Arkansas River in Logan County, near Dardanelle, Arkansas. The project utilizes federal lands on the shoreline of Lake Dardanelle.

g. Pursuant to: Public Law 105-283, 112 Stat. 2100.

h. Applicant Contact: Donald H. Clarke, Esquire, Wilkinson, Barker, Knauer & Quinn, LLP, 2300 N Street, NW., Suite 700, Washington, DC 20037-1128, (202) 783-4141.

i. FERC Contact: Any questions on this notice should be addressed to Mr. Lynn R. Miles, Sr. at (202) 219-2671, or e-mail address: lynn.miles@ferc.fed.us.

j. Deadline for filing comments and or motions: September 1, 2000.

All documents (original and eight copies) should be filed with: David P. Boergers, Secretary, Federal Energy Regulatory Commission, 888 First Street, NW., Washington DC 20426.

Please include the project number (10455-017) on any comments or motions filed.

k. Description of Request: The licensee requests a two-year extension of time to commence and complete construction of the River Mountain Pump Storage Project. The licensee states that it needs additional time because of the additional design work and engineering necessitated by recent design modifications to the project features as authorized by the Commission's Order Amending License and Approving Exhibits issued March 16, 2000. This would be the licensee's second two-year extension of the three authorized by Public Law No. 105-283, 112 Stat. 2100.

l. Locations of the Application: A copy of the application is available for inspection and reproduction at the Commission's Public Reference Room, located at 888 First Street, NE, Room 2A, Washington, DC 20426, or by calling (202) 208-1371. This filing may be viewed on http:\\www.ferc.fed.us/online/rims.htm (call (202) 208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-18983 Filed 7-26-00; 8:45 am]

BILLING CODE 6717-01-M